DEPARTMENT OF THE TREASURY

Customs Service

19 CFR Part 122

[T.D. 01-69]

Name Change of User Fee Airport in Ocala, FL

AGENCY: Customs Service, Department of the Treasury.

ACTION: Final rule.

SUMMARY: This document amends the list of user fee airports in the Customs Regulations to reflect that the name of the user fee airport located in Ocala, Florida, has been changed from Ocala Regional Airport to Ocala International Airport. User fee airports are those which, while not qualifying for designation as an international or landing rights airport because of insufficient volume or value of business, have been approved by the Commissioner of Customs to receive the services of Customs officers on a fee basis for the processing of aircraft entering the United States and their passengers and cargo.

EFFECTIVE DATE: September 27, 2001.

FOR FURTHER INFORMATION CONTACT: Nancy Bruner, Office of Field Operations, 202-927-2290.

SUPPLEMENTARY INFORMATION:

Background

User fee airports are those which, while not qualifying for designation as an international or landing rights airport because of insufficient volume or value of business, have been approved by the Commissioner of Customs to receive the services of Customs officers on a fee basis for the processing of aircraft entering the United States and their passengers and cargo.

Pursuant to 19 U.S.C. 58b, an airport may be designated as a user fee airport if the Secretary of the Treasury determines that the volume of Customs business at the airport is insufficient to justify the availability of Customs services at the airport and the governor of the State in which the airport is located approves the designation. Generally, the type of airport that would seek designation as a user fee airport would be one at which a company, such as an air courier service, has a specialized interest in regularly landing.

Section 122.15(b), Customs Regulations (19 CFR 122.15(b)), sets forth a list of the user fee airports designated by the Commissioner of Customs in accordance with 19 U.S.C. 58b. Section 122.15(b) was most recently updated by a final rule published in the Federal Register (65 FR 31263) on May 17, 2000.

This document amends § 122.15(b) to reflect that the name of the user fee airport located in Ocala, Florida, has been changed from Ocala Regional Airport to Ocala International Airport.

Inapplicability of Public Notice and Delayed Effective Date Requirements

Because this amendment merely reflects the changed name of a user fee airport that has already been designated by the Commissioner of Customs in accordance with 19 U.S.C. 58b and neither imposes additional burdens on, nor takes away any existing rights or privileges from, the public, pursuant to 5 U.S.C. 553(b)(B), notice and public procedure are unnecessary, and for the same reasons, pursuant to 5 U.S.C. 553(d)(3), a delayed effective date is not required.

Regulatory Flexibility Act and Executive Order 12866

Because no notice of proposed rulemaking is required, the provisions of the Regulatory Flexibility Act (5 U.S.C. 601 et seq.) do not apply. This amendment does not meet the criteria for a “significant regulatory action” as specified in Executive Order 12866.

Drafting Information

The principal author of this document was Janet L. Johnson, Regulations Branch, Office of Regulations and Ruling, U.S. Customs Service. However, personnel from other offices participated in its development.

List of Subjects in 19 CFR Part 122

Air carriers, Aircraft, Airports, Customs duties and inspection, Freight.

Amendment to the Regulations

Part 122, Customs Regulations (19 CFR part 122) is amended as set forth below.

PART 122—AIR COMMERCE REGULATIONS

1. The authority citation for part 122 continues to read as follows:

Authority: 5 U.S.C. 301; 19 U.S.C. 58b, 66, 1433, 1436, 1448, 1459, 1590, 1594, 1623, 1624, 1644, 1644a.

2. Section 122.15(b) is amended by removing the name “Ocala Regional Airport” in the “Name” column adjacent to “Ocala, Florida” in the “Location” column and adding in its place “Ocala International Airport”.

Charles W. Winwood,
Acting Commissioner of Customs.
Approved: September 20, 2001.
Timothy E. Skud,
Acting Deputy Assistant Secretary of the Treasury.

[FR Doc. 01-24167 Filed 9-26-01; 8:45 am]

BILLING CODE 4820-02-P